DEPARTMENT OF HEALTH AND HUMAN SERVICES

Centers for Disease Control and Prevention

[30Day-12-12IG]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at 404-639-7570 or send an email to omb@cdc.gov. Send written comments to CDC Desk Officer, Office of Management and Budget, Washington, DC or by fax to (202) 395-5806.

Proposed Project

Targeted Surveillance and Biometric Studies for Enhanced Evaluation of Community Transformation Grants—New—National Center for Chronic Disease Prevention and Health Promotion (NCCDPHP), Centers for Disease Control and Prevention (CDC).

Background and Brief Description

The Prevention and Public Health Fund (PPHF) of the Patient Protection and Affordable Care Act of 2010 (ACA) provides an important opportunity for states, counties, territories and tribes to advance public health across the lifespan and to reduce health disparities. The PPHF authorizes Community Transformation Grants (CTG) for the implementation, evaluation, and dissemination of evidence-based community preventive health activities. The CTG Program emphasizes five strategic directions: (1) Tobacco-free living, (2) active lifestyles and healthy eating, (3) high impact, evidence-based clinical and other preventive services, (4) social and emotional well-being, and (5) healthy and safe physical environments.

The CTG Program is administered by the Centers for Disease Control and Prevention (CDC), National Center for Chronic Disease Prevention and Health Promotion (NCCDPHP). As required by Section 4201 of the ACA, CDC is responsible for conducting a comprehensive evaluation of the CTG Program which includes assessment over time of measures relating to each of the five strategic directions.

CDC is requesting OMB approval to collect information through two studies needed for these assessments. One study is a telephone and mailed survey (Adult Targeted Surveillance Survey) of a random sample of adults in 20 CTG communities (1000 individuals per community). Respondents will be asked to provide information about household practices and their personal behaviors specific to the five strategic directions (e.g., nutrition). Information from the targeted surveillance surveys will be compared with data from other local, state or national surveillance systems to monitor changes in relevant attitudes, risk behaviors, and other behavioral factors.

The second study for which OMB approval is requested to conduct the Youth and Adult Biometric Study (YABS), in up to 8 CTG areas that are implementing evidence-based strategies to prevent exposure to secondhand smoke and to improve nutrition and physical activity among children and adults (and are part of the targeted surveillance study described above). The YABS will examine the impact of CTG strategies on biometric markers of health status including weight, height (i.e., body mass index or BMI), waist circumference, secondhand smoke exposure, and blood pressure. Each adult respondent in the YABS will be asked to participate in an in-home visit with a trained interviewer, who will collect biometric data about the respondent such as height, weight, saliva, blood pressure, etc. The adult respondent will also be asked to provide information about his or her activity level over a one-week period. Objective measures of activity will be collected through use of an accelerometer, i.e., an electronic meter worn next to the body. In addition, the respondent will maintain a hardcopy activity diary to assist in interpreting the accelerometry data. An adult YABS respondent who is the parent or guardian of a child in the household will be asked to allow one child (age 3-17 years) to participate in the youth component of the YABS. With the child's assent, similar biometric and activity measures will be collected from the child. If the child is between 3 and 11 years of age, the parent or guardian will be asked to complete a Caregiver Survey about the child's behaviors. If the child is between 12 and 17 years of age, he or she will be asked to complete a Youth Survey.

The estimated burden per response is 30 minutes for adults participating in the first study, and up to an additional 60 minutes if the same adult agrees to participate in the YABS study. The estimated burden for youth between 12 and 17 years of age is 50 minutes, and 20 minutes for children aged 3 to 11 years. Caregivers for the younger children will have an estimated burden per response of 20 minutes to complete the Caregiver Survey. The information to be collected will allow CDC to estimate the effect of all CTG interventions on health behaviors and health outcomes in adults and children ages 3-17 years, and to estimate the independent effect of school-based interventions in youth. OMB approval is requested for the first three years of the five-year CTG project period. Participation is voluntary and there are no costs to respondents other than their time. The total estimated burden hours are 8,301.

Estimated Annualized Burden Hours
Type of respondent | Form name | Number of respondents | Number of responses per respondent | Average burden per response (in hr)
Adults in CTG Awardee Communities | Adult Targeted Surveillance Survey Recruitment Screener | 10,000 | 1 | 2/60
| Adult Targeted Surveillance Survey | 10,000 | 1 | 28/60
Adults Participants in the Youth and Adult Biometric Study | Adult Targeted Surveillance Survey Recruitment Screener | 1,300 | 1 | 2/60
| Adult Targeted Surveillance Survey | 1,300 | 1 | 28/60
| Adult Biometric Measures Recruitment Screener (phone/paper) | 2,000 | 1 | 8/60
| Adult Biometric Measures Recruitment Screener (in-person) | 2,000 | 1 | 2/60
| Youth Survey Recruitment Screener for Parent/Guardian | 800 | 1 | 2/60
| Adult Biometric Measures | 2,000 | 1 | 30/60
| Adult Activity Diary and Reminder | 500 | 1 | 20/60
| Caregiver Survey Recruitment Screener | 800 | 1 | 2/60
| Caregiver Survey | 800 | 1 | 18/60
| Caregiver Activity Diary (on behalf of young child) | 250 | 1 | 10/60
Children Participants in the Youth and Adult Biometric Study | Child or Youth Biometric Measures. Youth Activity Diary Youth Survey Recruitment Screener for Youth | 1,600 250 800 | 1 1 1 | 20/60 10/60 2/60
| Youth Survey | 800 | 1 | 16/60

Dated: July 31, 2012.
Ron A. Otten,
Director, Office of Scientific Integrity (OSI), Office of the Associate Director for Science (OADS), Office of the Directors, Centers for Disease Control and Prevention.

[FR Doc. 2012-19260 Filed 8-6-12; 8:45 am]

BILLING CODE 4163-18-P